DEPARTMENT OF TRANSPORTATION

Federal Motor Carrier Safety Administration

[Docket No. FMCSA-2007-27924]

Notice of Request for Information (RFI): Training Certification for Entry-Level Commercial Motor Vehicle Operators

AGENCY: Federal Motor Carrier Safety Administration (FMCSA), DOT.

ACTION: Notice; request for comments.

SUMMARY: In accordance with the Paperwork Reduction Act of 1995, FMCSA announces its plan to submit the Information Collection Request (ICR) described below to the Office of Management and Budget (OMB) for review and approval, and invites public comment. The FMCSA requests approval to revise an ICR entitled, “Training Certification for Entry-Level Commercial Motor Vehicle Operators,” that relates to the training requirements for drivers applying for a commercial drivers license.

DATES: We must receive your comments on or before July 23, 2007.

ADDRESSES: You may submit comments identified by any of the following methods. Please identify your comments by the FMCSA Docket Number FMCSA-2007-27924.

• Web site: http://dms.dot.gov. Follow instructions for submitting comments to the Docket.

• Fax: 202-493-2251.

• Mail: U.S. Department of Transportation, Docket Management Facility, 400 Seventh Street, SW., Plaza level, Washington, DC 20590-0001.

• Hand Delivery: Plaza level of the Nassif Building, 400 Seventh Street, SW., Washington DC, between 9 a.m. and 5 p.m., e.t. Monday through Friday, except Federal holidays.

Docket: For access to the Docket Management System (DMS) to read background documents or comments received, go to http://dms.dot.gov at any time or to the plaza level of the Nassif Building, 400 Seventh Street, SW., Washington, DC, between 9 a.m. and 5 p.m., e.t. Monday through Friday, except Federal holidays. The DMS is available electronically 24 hours each day, 365 days each year. If you want notification of receipt of your comments, please include a self-addressed, stamped envelope, or postcard or print the acknowledgement page that appears after submitting comments on-line.

Privacy Act: Anyone is able to search the electronic form of all comments received into any of our dockets by the name of the individual submitting the comment (or signing the comment, if submitted on behalf of an association, business, labor union, etc.). You may review DOT's complete Privacy Act Statement in the Federal Register on April 11, 2000 (65 FR 19477), or you may visit http://dms.dot.gov.

FOR FURTHER INFORMATION CONTACT: Mr. Thomas Yager, Chief, Driver and Carrier Operations Division, Office of Bus and Truck Standards and Operations, MC-PSD, Federal Motor Carrier Safety Administration, 400 Seventh Street, SW., Washington, DC 20590-0001. Telephone: 202-366-4009. E-mail: MCPSD@dot.gov.

SUPPLEMENTARY INFORMATION: Background: The Commercial Motor Vehicle Safety Act of 1986 (CMVSA) (49 U.S.C. 31301 et seq.) established national minimum testing and licensing standards for operators of large trucks and buses. Congress sought to ensure that drivers of large trucks and buses possessed the knowledge and skills necessary to operate these vehicles. The CMVSA established the “Commercial Drivers License” (CDL) program and directed the Federal Highway Administration (FHWA), FMCSA's predecessor agency, to establish minimum Federal standards that States must meet when licensing CMV drivers. The CMVSA applies to most operators of CMVs in interstate or intrastate commerce, including employees of Federal, State and local governments.

Section 4007(a)(2) of the Intermodal Surface Transportation Efficiency Act of 1991 (ISTEA) (Public Law 102-240, December 18, 1991) directed the FHWA to “commence a rulemaking proceeding on the need to require training of all entry-level drivers of CMVs.” On June 21, 1993, the FHWA published in the Federal Register an advance notice of proposed rulemaking entitled, “Commercial Motor Vehicles: Training for All Entry Level Drivers” (58 FR 33874). The Agency also began a study of the effectiveness of the training of entry-level drivers by the private sector. The results of the study were published in 1997 under the title “Adequacy of Commercial Motor Vehicle Driver Training,” and are available in FMCSA Docket 1997-2199. The study found that the heavy truck, motor coach, and school bus segments of the industry were not providing adequate entry-level training.

On August 15, 2003, FMCSA published a notice of proposed rulemaking (NPRM) entitled, “Minimum Training Requirements for Entry-Level Commercial Motor Vehicle Operators” (68 FR 48863). The Agency proposed mandatory training for operators of CMVs in four areas: driver qualifications, hours-of-service of drivers, driver wellness and whistle-blower protection. Training in these topics was not required at that time, and the Agency believed that knowledge of these areas was crucial to CMV safety. On May 21, 2004, FMCSA published a final rule with the same title as the NPRM (69 FR 2004). The Agency mandated training for all CDL operators in the four subject areas, effective July 20, 2004. On June 11, 2004, OMB approved the information collection associated with this requirement for a period of three years expiring June 30, 2007.

Title: Training Certification for Entry-Level Commercial Motor Vehicle Operators.

OMB Control Number: 2126-0028.

Type of Request: Revision of a currently-approved information collection.

Respondents: Entry-level CDL drivers.

Estimated Number of Respondents: 45,611.

Estimated Time per Response: 10 minutes.

Expiration Date: June 30, 2007.

Frequency of Response: On occasion.

Estimated Total Annual Burden: 7,602 hours. FMCSA estimates that an entry-level driver requires approximately 10 minutes to complete the tasks necessary to comply with the regulation. Those tasks are: photocopying the training certificate, giving the photocopy to the motor carrier employer, and placing the original of the certificate in a personal file. Therefore, the annual burden for all entry-level drivers is (45,611 × 10/60) = 7,602 hours (rounded).

Definitions: “Commercial Motor Vehicles (CMVs)”: This rule applies to the operators of a specific sub-group of commercial vehicles, i.e. those having a gross vehicle weight rating of 26,001 pounds or more, regardless of weight; are designed to transport 16 or more passengers; or are used to transport placardable and dangerous hazardous materials (49 CFR 383.5). The term “CMV” is limited to this definition in this document; the term “CDL driver” is used because the operators of these CMVs are required to have a valid commercial driver's license (CDL). This rule currently applies solely to “entry-level” CDL drivers, i.e. those who have no experience operating a CMV (49 CFR 380.502(b)).

Public Comments Invited: You are asked to comment on any aspect of this information collection, including: (1) Whether the proposed collection is necessary for the FMCSA's performance; (2) the accuracy of the estimated burden; (3) ways for the FMCSA to enhance the quality, usefulness, and clarity of the collected information; and (4) ways that the burden could be minimized without reducing the quality of the collected information. The Agency will summarize or include your comments in the request for OMB's clearance of this information collection.

Issued on: May 17, 2007.
D. Marlene Thomas,
Associate Administrator for Administration.

[FR Doc. E7-9948 Filed 5-22-07; 8:45 am]

BILLING CODE 4910-EX-P